SMALL BUSINESS ADMINISTRATION

[Disaster Declaration #14625 and #14626]

Texas Disaster Number TX-00464

AGENCY: U.S. Small Business Administration.

ACTION: Amendment 1.

SUMMARY: This is an amendment of the Presidential declaration of a major disaster for Public Assistance Only for the State of TEXAS (FEMA-4255-DR), dated 02/09/2016.

Incident: Severe Winter Storms, Tornadoes, Straight-line Winds, and Flooding.

Incident Period: 12/26/2015 through 01/21/2016.

Effective Date: 03/15/2016.

Physical Loan Application Deadline Date: 04/11/2016.

Economic Injury (EIDL) Loan Application Deadline Date: 11/09/2016.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: The notice of the President's major disaster declaration for Private Non-Profit organizations in the State of TEXAS, dated 02/09/2016, is hereby amended to include the following areas as adversely affected by the disaster.

Primary Counties: Borden, Cass, Collingsworth, Cottle, Crosby, Delta, Donley, Fisher, Floyd, Foard, Franklin, Haskell, Hockley, Jones, Knox, Leon, Motley, Nolan, Scurry, Shackelford, Stonewall, Terry, Trinity, Walker, Wheeler, Wilbarger.

All other information in the original declaration remains unchanged.

(Catalog of Federal Domestic Assistance Numbers 59008)

Lisa Lopez-Suarez,
Acting Associate Administrator for Disaster Assistance.

[FR Doc. 2016-06387 Filed 3-21-16; 8:45 am]

BILLING CODE 8025-01-P